DEPARTMENT OF HEALTH AND HUMAN SERVICES

Office of the Secretary

[Document Identifier: HHS-OS-0990-NEW-60D]

Agency Information Collection Activities; Proposed Collection; Public Comment Request

AGENCY: Office of the Assistant Secretary for Health, Office of Adolescent Health, HHS.

ACTION: Notice.

SUMMARY: In compliance with section 3506(c)(2)(A) of the Paperwork Reduction Act of 1995, the Office of the Secretary (OS), Department of Health and Human Services, announces plans to submit a new Information Collection Request (ICR), described below, to the Office of Management and Budget (OMB). Prior to submitting that ICR to OMB, OS seeks comments from the public regarding the burden estimate, below, or any other aspect of the ICR.

DATES: Comments on the ICR must be received on or before January 20, 2015.

ADDRESSES: Submit your comments to Information.CollectionClearance@hhs.gov or by calling (202) 690-6162.

FOR FURTHER INFORMATION CONTACT: Information Collection Clearance staff, Information.CollectionClearance@hhs.gov or (202) 690-6162.

SUPPLEMENTARY INFORMATION: When submitting comments or requesting information, please include the document identifier HHS-OS-0990-NEW-60D for reference.

Information Collection Request Title: Pregnancy Assistance Fund Feasibility and Design Study (FADS).

Abstract: The Office of Adolescent Health (OAH), U.S. Department of Health and Human Services (HHS) is requesting approval by OMB on a new collection. The Pregnancy Assistance Fund (PAF) evaluation will provide information about program design, implementation, and impacts through two core components: A rigorous assessment of program impacts and implementation, and a descriptive examination of program design. This proposed information collection request includes instruments related to the in-depth implementation study that complements the impact study. The data collected from these instruments will provide a detailed understanding of program implementation.

Need and Proposed Use of the Information: The data will serve two main purposes. First, the information will enable the study team to produce clear, detailed descriptions of each intervention that is evaluated and the counterfactual in each site. This documentation is critical for understanding the meaning of impact estimates. Second, the data will be used to assess fidelity of implementation and the quality of program delivery. This information is essential for determining whether the interventions were implemented well and whether the evaluation provided a good test of each site's intervention.

Likely Respondents: The 140 program administrators and case managers and 200 youth participants in 3 impact study sites.

Total Estimated Annualized Burden—Hours
Form name | Number of respondents | Number of responses per respondent | Average burden per response (in hours) | Total burden hours
Semi-structured interview | 12 | 2 | 1 | 24
Staff focus group | 17 | 1 | 1 | 17
Staff survey | 47` | 1 | .5 | 24
Program attendance and content coverage protocol | 2 | 12 | .5 | 12
Youth focus group | 67 | 1 | 1.5 | 100.5
Total |  |  |  | 177.5

OS specifically requests comments on (1) the necessity and utility of the proposed information collection for the proper performance of the agency's functions, (2) the accuracy of the estimated burden, (3) ways to enhance the quality, utility, and clarity of the information to be collected, and (4) the use of automated collection techniques or other forms of information technology to minimize the information collection burden.

Darius Taylor,
Information Collection Clearance Officer.

[FR Doc. 2014-27473 Filed 11-19-14; 8:45 am]

BILLING CODE 4168-11-P